ADMINISTRATIVE CONFERENCE OF THE UNITED STATES

Notice of Public Meetings of Committees of the Administrative Conference of the United States

AGENCY: Administrative Conference of the United States

ACTION: Notice of public meetings.

SUMMARY: Notice is hereby given of six public meetings of the Committee on Administrative and Management, the Committee on Adjudication, and the Committee on Regulation of the Assembly of the Administrative Conference of the United States. At these meetings, the committees will consider draft reports and recommendations on several projects. Complete details regarding the committee meetings, the contours of the projects, how to attend (including information about remote access and obtaining special accommodations for persons with disabilities), and how to submit comments to each committee can be found in the “About” section of the Conference's Web site, at http://www.acus.gov. Click on “Research,” then on “Committee Meetings.”

Comments may be submitted by email to Comments@acus.gov, with the name of the appropriate committee in the subject line, or by postal mail to the appropriate committee at the address given below.

DATES: Committee on Adjudication: Monday, March 12, 2012 from 9:30 a.m. to 12:30 p.m. and Monday, April 16, 2012 from 9:30 a.m. to 12:30 p.m. Committee on Administration and Management: Wednesday, February 29, 2012 from 1:30 p.m. to 4:30 p.m. and Wednesday, March 28, 2012 from 1:30 p.m. to 4:30 p.m. Committee on Regulation: Wednesday, March 7, 2012 from 1 p.m. to 4 p.m. and Wednesday, April 18, 2012 from 1 p.m. to 4 p.m.

ADDRESSES: The meetings will be held at 1120 20th Street NW., Suite 706 South, Washington, DC 20036.

FOR FURTHER INFORMATION CONTACT: The Designated Federal Officer for the individual committee (see listings below), Administrative Conference of the United States, 1120 20th Street NW., Suite 706 South, Washington, DC 20036; Telephone (202) 480-2080.

SUPPLEMENTARY INFORMATION:

Committee on Adjudication

The Committee on Adjudication will meet to discuss further a draft report on the Immigration Adjudication Project. The report, prepared by Professor Lenni B. Benson (New York Law School) and Russell Wheeler (Brookings Institution), presents the findings of a study of potential improvements to the procedures for immigration adjudication. At its meetings, the Committee on Adjudication will also consider further a draft recommendation based on the consultants' report. Funmi E. Olorunnipa is the Designated Federal Officer for this committee. More information can be found in the “About” section of the Conference's Web site, at http://www.acus.gov. Click on “About,” then on “The Committees,” and then on “Committee on Adjudication.”

Committee on Administration and Management

The Committee on Administration and Management will meet to discuss a draft report on the Paperwork Reduction Act Project. The report, prepared by Professor Stuart Shapiro (Rutgers University), presents the findings of a study on the issue of the Paperwork Reduction Act and proposed improvements to its implementation. At its meetings, the Committee on Administration and Management will also consider a draft recommendation based on the consultant's report. Emily Schleicher Bremer is the Designated Federal Officer for this committee. More information can be found in the “About” section of the Conference's Web site, at http://www.acus.gov. Click on “About,” then on “The Committees,” and then on “Committee on Administration and Management.”

Committee on Regulation

The Committee on Regulation will meet to discuss a draft report concerning the Science in the Administrative Process project. The report, prepared by Professor Wendy Wagner (University of Texas Law School), presents the findings of a study on the use of science by administrative agencies and offers recommendations for agencies to improve their use of science. The committee may also consider a draft recommendation on improving agencies' use of science. Reeve T. Bull is the Designated Federal Officer for this committee. More information can be found in the “About” section of the Conference's Web site, htpp://www.acus.gov. Click on “About,” then on “The Committees,” then on “Committee on Regulation,” and finally on “Science Project Page.”

Dated: February 1, 2012.
Shawne C. McGibbon,
General Counsel.

[FR Doc. 2012-2567 Filed 2-3-12; 8:45 am]

BILLING CODE 6110-01-P